SURFACE TRANSPORTATION BOARD

[Docket No. FD 36649]

Illinois Western Railroad Company—Operation Exemption—in Greenville, Ill.

Illinois Western Railroad Company (ILW), a noncarrier, has filed a verified notice of exemption under 49 CFR 1150.31 to operate approximately thirteen hundred feet of existing trackage owned by the City of Greenville (City), extending from a connection with CSX Transportation, Inc., into the Alan E. Gaffner Industrial Park (formerly the Howard M. Wolf Business Park), in Greenville, Bond County, Ill. (the Greenville Track). The Greenville Track does not have mileposts.

This transaction is related to a concurrently filed verified notice of exemption in 3i RR Holdings GP LLC—Control Exemption—Effingham Railroad, Docket No. FD 36650, in which 3i RR Holdings GP LLC, 3i Holdings Partnership L.P., 3i RR Intermediate Holdings LLC, 3i RR LLC, Regional Rail Holdings, LLC, Regional Rail Sub Holdings LLC, and Regional Rail, LLC, seek to control ILW upon ILW's becoming a Class III rail carrier, and to control two other Class III rail carriers.

According to the verified notice, ILW has conducted switching operations on the Greenville Track since 1996, but its notice of exemption filed that year to operate the Greenville Track was dismissed as not being within the Board's authority. See Ill. W. R.R.—Change in Operator Exemption—City of Greenville, Ill., FD 32853 (STB served Jan. 30, 1996). ILW states that, in connection with the pending sale of ILW and two rail carriers, it is seeking to establish and resolve its status as a rail carrier, consistent with the Board's 1997 decision in Effingham Railroad—Petition for Declaratory Order—Construction at Effingham, Ill., 2 S.T.B. 606 (1997), aff'd sub nom. United Transportation Union v. STB, 183 F.3d 606 (7th Cir. 1999). ILW further states that operations on the Greenville Track will continue under the current iteration of an operating agreement with the City, which was entered into in 2016.¹

¹ Public and confidential versions of the operating agreement were filed with the verified notice. The confidential version was submitted under seal concurrent with a motion for protective order, which is addressed in a separate decision.

ILW certifies that its projected annual revenue will not exceed $5 million and that the proposed transaction will not result in ILW's becoming a Class I or II rail carrier. ILW states that the operating agreement between it and the City contains no restriction on ILW interchanging traffic with any rail carriers.

The earliest this transaction may be consummated is December 18, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 9, 2022.

All pleadings, referring to Docket No. FD 36649, must be filed with the Surface Transportation Board either via e-filing on the Board's website or in writing addressed to 395 E Street SW, Washington, DC 20423-0001. In addition, a copy of each pleading must be served on ILW's representative, Michael J. Barron, Jr., Fletcher & Sippel LLC, 29 North Wacker Drive, Suite 800, Chicago, IL 60606-3208.

According to ILW, this action is categorically excluded from environmental review under 49 CFR 1105.6(c) and from historic preservation reporting requirements under 49 CFR 1105.8(b).

Board decisions and notices are available at www.stb.gov.

Decided: November 29, 2022.
By the Board, Mai T. Dinh, Director, Office of Proceedings.
Raina White,
Clearance Clerk.

[FR Doc. 2022-26276 Filed 12-1-22; 8:45 am]

BILLING CODE 4915-01-P